DEPARTMENT OF AGRICULTURE

Animal and Plant Health Inspection Service

9 CFR Part 93

[Docket No. APHIS-2006-0107]

Spring Viremia of Carp; Import Restrictions on Certain Live Fish, Fertilized Eggs, and Gametes

Correction

In rule document E6-14478 beginning on page 51429 in the issue of Wednesday, August 30, 2006, make the following correction:

§93.901 [Corrected]

On page 51436, in the second column, §93.901(b)(3) is corrected to read as follows: “(3) They are moved in accordance with any additional conditions prescribed in the permit and determined by the Administrator to be necessary to ensure that the live fish, fertilized eggs, or gametes through the United States do not introduce SVC into the United States.”.

[FR Doc. Z6-14478 Filed 9-14-06; 8:45 am]

BILLING CODE 1505-01-D

DEPARTMENT OF DEFENSE

Department of the Army; Corps of Engineers

Availability of a Draft Integrated Feasibility Report and Environmental Impact Statement for the Mid-Chesapeake Bay Island Ecosystem Restoration Project in Dorchester County, on Maryland's Eastern Shore

Correction

In notice document 06-7506 beginning on page 53090 in the issue of Friday, September 8, 2006, make the following corrections:

1. On page 53091, in the third column, entry (21) should read as follows:

“(21) Sudlersville Memorial Library, 105 West Main Street, Sudlersville, MD 21668.”.

2. On the same page, in the same column, insert an entry (22) to read as follows:

“(22) Talbot County Public Library, Easton Branch, 100 West Dover Street, Easton, MD 21601.”.

[FR Doc. C6-7506 Filed 9-14-06; 8:45 am]

BILLING CODE 1505-01-D

DEPARTMENT OF THE INTERIOR

Bureau of Land Management

[NV-025-1232-NX-NV19; Special Recreation Permit #NV-025-06-01]

Notice to the Public of Temporary Public Lands Closures and Prohibitions of Certain Activities on Public Lands Administered by the Bureau of Land Management, Winnemucca Field Office, NV

Correction

In notice document E6-14668 beginning on page 52569 in the issue of Wednesday, September 6, 2006, make the following correction:

On page 52569, in the second column, in the document subject, in the last line, “NE” should read “NV”.

[FR Doc. Z6-14668 Filed 9-14-06; 8:45 am]

BILLING CODE 1505-01-D